ENVIRONMENTAL PROTECTION AGENCY

[OPP-00439K; FRL-6776-5]

Pesticide Program Dialogue Committee (PPDC); Inert Disclosure Stakeholder Workgroup; Notice of Public Meeting; Correction

AGENCY: Environmental Protection Agency (EPA).

ACTION: Notice of public meeting.

SUMMARY: In the Federal Register of March 7, 2001 (66 FR 13733) (FRL-6768-6), EPA announced a conference call meeting of the Inert Disclosure Stakeholder Workgroup. On page 13733, second column, under the DATES caption, the date of the conference call meeting was inadvertently listed as March 10, 2001. The correct date is March 20, 2001. This notice announces the correct meeting date of the Inert Disclosure Stakeholder Workgroup.

DATES: The meeting will be held by conference call on Tuesday, March 20, 2001, from noon to 3 p.m. eastern standard time.

ADDRESSES: Members of the public may listen to the meeting discussions on site at: Crystal Mall #2, 1921 Jefferson Davis Highway, Arlington, VA 22202; conference room 1123. Seating is limited and will be available on a first come, first serve basis.

FOR FURTHER INFORMATION CONTACT: By mail: Cameo Smoot, Field and External Affairs Division (7506C), Office of Pesticide Programs, Environmental Protection Agency, 1200 Pennsylvania Avenue, NW., Washington, DC 20460; telephone: (703) 305-5454. Office location: 11th floor, Crystal Mall #2, 1921 Jefferson Davis Highway, Arlington, VA; e-mail: smoot.cameo@epa.gov.

List of Subjects

Environmental protection, Pesticides, Inerts, PPDC.

Dated: March 9, 2001.
Joseph J. Merenda, Jr.
Acting Director, Office of Pesticide Programs.

[FR Doc. 01-6723 Filed 3-14-01 12:54 pm]

BILLING CODE 6560-50-S